DEPARTMENT OF ENERGY

Federal Energy Regulatory Commission

Combined Notice of Filings #1

Take notice that the Commission received the following exempt wholesale generator filings:

Docket Numbers: EG16-76-000.

Applicants: Copper Mountain Solar 4, LLC.

Description: Self-Certification of EWG Status of Copper Mountain Solar 4, LLC.

Filed Date: 3/29/16.

Accession Number: 20160329-5096.

Comments Due: 5 p.m. ET 4/19/16.

Take notice that the Commission received the following electric rate filings:

Docket Numbers: ER15-2130-002; ER15-2131-002.

Applicants: Roosevelt Wind Project, LLC, Milo Wind Project, LLC.

Description: Notice of Non-Material Change in Status of Roosevelt Wind Project, LLC and Milo Wind Project, LLC.

Filed Date: 3/28/16.

Accession Number: 20160328-5240.

Comments Due: 5 p.m. ET 4/18/16.

Docket Numbers: ER16-425-001.

Applicants: New York Independent System Operator, Inc.

Description: Compliance filing: NYISO comprehensive scarcity pricing compliance filing to be effective 12/31/9998.

Filed Date: 3/29/16.

Accession Number: 20160329-5023.

Comments Due: 5 p.m. ET 4/19/16.

Docket Numbers: ER16-1282-000.

Applicants: Southwest Power Pool, Inc.

Description: Section 205(d) Rate Filing: 2900R6 KMEA NITSA NOA to be effective 3/1/2016.

Filed Date: 3/29/16.

Accession Number: 20160329-5099.

Comments Due: 5 p.m. ET 4/19/16.

Docket Numbers: ER16-1283-000.

Applicants: NorthWestern Corporation.

Description: Initial rate filing: SA 778—EP&C Agreement with Project Spokane, LLC to be effective 3/30/2016.

Filed Date: 3/29/16.

Accession Number: 20160329-5124.

Comments Due: 5 p.m. ET 4/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2016.
Nathaniel J. Davis, Sr.,
Deputy Secretary.

[FR Doc. 2016-07535 Filed 4-1-16; 8:45 am]

BILLING CODE 6717-01-P